DEPARTMENT OF JUSTICE

Antitrust Division

Notice Pursuant to the National Cooperative Research and Production Act of 1993—National Armaments Consortium

Notice is hereby given that, on January 31, 2018, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, AF Technologies, Inc., Arlington, TX; Agile Global Solutions LLC, Denver, NC; Airtronic USA, Inc., Spring Branch, TX; Arconic Defense Inc., New Kensington, PA; Arizona Engineering Technologies LLC, Scottsdale, AZ; ASR Corporation, Albuquerque, NM; Cintel, Inc., Huntsville, AL; Continuum Dynamics, Inc., Ewing, NJ; Decisive Analytics Corporation, Arlington, VA; Earthly Dynamics LLC, Atlanta, GA; HBM nCode Federal, LLC, Southfield, MI; Ideal Innovations Incorporated, Arlington, VA; Innoveering LLC, Ronkonkoma, NY; Kennley Corporation, North Chesterfiled, VA; LogiCare, Inc., Huntsville, AL; nMeta, LLC, New Orleans, LA; Synthio Chemicals, LLC, Boulder, CO; Ultra Electronics Ocean Systems Inc., Braintree, MA; Vista Outdoor Sales LLC, Anoka, MN; Voxtel, Inc., Beaverton, OR; and WINTEC, Incorporated, Shalimar, FL, have been added as parties to this venture.

Also, Advanced Design Consulting USA, Inc., Lansing, NY; Decision Sciences, Inc., Fort Walton Beach, FL; Enable Tech MFG, LLC, Houston, TX; Evigia Systems, Inc., Ann Arbor, MI; Excet, Inc., Springfield, VA; Grey Castle Group, LLC, Charlotte, NC; Gunwright Technologies LLC, Gilbert, AZ; Infoscitex Corporation, Waltham, MA; ManTech Advanced Systems International, Inc., Fairfax, VA; MILSPRAY, LLC, Lakewood, NJ; PolyCase Ammunition, LLC, Savannah, GA; Polymer Aging Concepts, Inc., Dahlonega, GA; R2C Support Services, Huntsville, AL; Schafer Aerospace, Inc., Albuquerque, NM; Technical Professional Services, Inc., Wayland, MI; The Regents of the University of California, Irvine, CA; and Transparent Armor Solutions, Inc., Santa Ana, CA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section (b) of the Act on June 30, 2000 (65 FR 40693).

The last notification was filed with the Department on October 24, 2017. A notice was published in the Federal Register pursuant to Section 6(b) of the Act on November 16, 2017 (82 FR 53526).

Patricia A. Brink,
Director of Civil Enforcement, Antitrust Division.

[FR Doc. 2018-04844 Filed 3-9-18; 8:45 am]

BILLING CODE 4410-11-P